NATIONAL ENDOWMENT FOR THE ARTS

Privacy Act of 1974; System of Records

AGENCY: National Endowment for the Arts.

ACTION: Notice of a new System of Records.

SUMMARY: The National Endowment for the Arts (Endowment or NEA) is publishing a notice of its Reasonable Accommodations system. The system is used to collect and maintain medical and religious documentation used to determine reasonable accommodations for NEA staff.

DATES: This system of records will go into effect without further notice April 13, 2022 unless otherwise revised pursuant to comments received.

ADDRESSES: Chief Information Officer; National Endowment for the Arts, 400 7th Street SW, Washington, DC 20506; telephone at (202) 682-5706 or by electronic mail at tunnessenj@arts.gov.

FOR FURTHER INFORMATION CONTACT: Chief Information Officer, tunnessenj@arts.gov.

SUPPLEMENTARY INFORMATION: In accordance with 5 U.S.C. 552a(e)(4), the Endowment is today publishing a notice of the existence and character of its Reasonable Accommodation system in order to make available in one place in the Federal Register.

SYSTEM NAME AND NUMBER:

Reasonable Accommodations/NEA-19.

SYSTEM CLASSIFICATION:

Unclassified.

SYSTEM LOCATION:

Office of Human Resources, 400 7th Street SW, Washington, DC 20506.

SYSTEM MANAGER(S):

Deputy Director HR; Office of Human Resources, 400 7th Street SW, Washington, DC 20506; williamsl@arts.gov, (202) 682-5527.

AUTHORITY FOR MAINTENANCE OF THE SYSTEM:

National Foundation on the Arts and the Humanities Act of 1965, as amended (20 U.S.C. 951 et seq).

Rehabilitation Act, 29 U.S.C. 791.

Title VII of the Civil Rights Act, 42 U.S.C. 2000e.

Executive Order 13164.

29 CFR 1605 and 1614.

PURPOSE(S) OF THE SYSTEM:

To provide a central repository for information about reasonable accommodations for employees at the NEA.

CATEGORIES OF INDIVIDUALS COVERED BY THE SYSTEM:

Individuals who have filed for medical and/or religious accommodations at the NEA.

CATEGORIES OF RECORDS IN THE SYSTEM:

Name, address, telephone number, Social Security number, medical information, religious information.

RECORD SOURCE CATEGORIES:

Data in this system is obtained from Endowment employees.

ROUTINE USES OF RECORDS MAINTAINED IN THE SYSTEM, INCLUDING CATEGORIES OF USERS AND THE PURPOSES OF SUCH USES:

1. A record may be disclosed as a routine use to a Member of Congress or his or her staff, when the Member of Congress or his or her staff requests the information on behalf of and at the request of the individual who is the subject of the record.

2. A record may be disclosed as a routine use to designated officers and employees of other agencies and departments of the Federal government having an interest in the subject individual for employment purposes (including the hiring or retention of any employee; the issuance of a security clearance; the letting of a contract; or the issuance of a license, grant, or other benefit by the requesting agency) to the extent that the information is relevant and necessary to the requesting agency's decision on the matter involved.

3. In the event that a record in this system of records maintained by the Endowment indicates, either by itself or in combination with other information in the Endowment's possession, a violation or potential violation of the law (whether civil, criminal, or regulatory in nature, and whether arising by statute or by regulation, rule, or order issued pursuant thereto), that record may be referred, as a routine use, to the appropriate agency, whether Federal, state, local, or foreign, charged with the responsibility of investigating or prosecuting such violation, or charged with enforcing or implementing the statute, rule, regulation, or order issued pursuant thereto. Such referral shall be deemed to authorize: (1) Any and all appropriate and necessary uses of such records in a court of law or before an administrative board or hearing; and (2) Such other interagency referrals as may be necessary to carry out the receiving agencies' assigned law enforcement duties.

4. A record may be disclosed as a routine use in a proceeding before a court or adjudicative body before which the Endowment is authorized to appear, when

(a) The agency; or

(b) Any employee of the agency in his or her official capacity; or

(c) Any employee of the agency in his or her individual capacity where the agency has agreed to represent the employee; or

(d) The United States, where the agency determines that litigation is likely to affect the agency, is a party to litigation or has an interest in such litigation, and the agency determines that use of such records is relevant and necessary to the litigation.

5. A record may be disclosed as a routine use to a contractor, expert, or consultant of the Endowment (or an office within the Endowment) on a “need-to-know” basis for a purpose within the scope of the pertinent Endowment task. This access will be granted to an Endowment contractor or employee of such contractor by a system manager only after satisfactory justification has been provided to the system manager.

6. A record from this system of records may be disclosed as a routine use to the National Archives and Records Administration in records management inspections conducted under authority of 44 U.S.C. 2904 and 2906.

7. A record from this system of records may be disclosed as a routine use to appropriate agencies, entities, and persons when (1) the Endowment suspects or has confirmed that there has been a breach of the system of records; (2) the Endowment has determined that as a result of the suspected or confirmed breach there is a risk of harm to individuals, the Endowment (including information systems, programs, and operations), the Federal Government, or national security; and (3) the disclosure made to such agencies, entities, and persons is reasonably necessary to assist in connection with the Endowment's efforts to respond to the suspected or confirmed breach or to prevent, minimize, or remedy such harm.

8. A record from this system of records may be disclosed as a routine use to another Federal agency or Federal entity, when the Endowment determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records in this system are maintained in an electronic database. Paper records are maintained in a locked file cabinet.

POLICIES AND PRACTICES FOR RETRIEVAL OF RECORDS:

Records in this system are retrieved by name.

POLICIES AND PRACTICES FOR RETENTION AND DISPOSAL OF RECORDS:

Records in this system are maintained and updated on a continuing basis, as new information is received by the National Endowment for the Arts staff. Endowment staff will periodically request updated information from individuals who already have a reasonable accommodation record. Endowment staff will also periodically purge the reasonable accommodations records in accordance with the General Records Schedule 2.3 for Reasonable accommodations case files. These records will be destroyed 3 years after the employee has separated from the agency.

ADMINISTRATIVE, TECHNICAL, AND PHYSICAL, SAFEGUARDS:

Reasonable accommodations files on computer servers are limited in access to NEA Human Resources personnel only. Endowment staff authorized to access electronic records are assigned permission levels. Permission level assignments allow authorized users to access only the system functions and records specific to their agency work need. The Endowment also has technical security measures including restrictions on computer access to authorized individuals and required use of personal identity verification (PIV) card and password. Paper files are kept in a locked file cabinet. Only authorized Endowment staff have access to the paper files which are stored within a locking file cabinet in a locked room in secured facilities with controlled access.

RECORD ACCESS PROCEDURES:

See 45 CFR part 1159.

CONTESTING RECORD PROCEDURES:

See 45 CFR part 1159.

NOTIFICATION PROCEDURES:

See 45 CFR part 1159.

EXEMPTIONS PROMULGATED FOR THE SYSTEM:

None.

HISTORY:

None.

Dated: March 8, 2022.
Meghan Jugder,
Support Services Specialist, Office of Administrative Services & Contracts, National Endowment for the Arts.

[FR Doc. 2022-05255 Filed 3-11-22; 8:45 am]

BILLING CODE 7537-01-P